DEPARTMENT OF DEFENSE

Department of the Navy

Notice of Intent To Grant Exclusive Patent License; Hadal, Inc.

AGENCY: Department of the Navy, DoD.

ACTION: Notice.

SUMMARY: The Department of the Navy hereby gives notice of its intent to grant to Hadal, Inc. a revocable, non-assignable, exclusive license to practice in the United States, the Government-owned inventions described in Navy Case No. 98,709: Attitude Estimation Using Ground Imagery//Navy Case No. 98,801: Apparatus and Method For Grazing Angle Independent Signal Detection//Navy Case No. 98,946: Apparatus and Method For Compensating Images For Differences In Aspect//Navy Case No. 98,947: System and Method For Spatially Invariant Signal Detection//Navy Case No. 98,984: Correlation Image Detector//Navy Case No. 99,033: Holographic Map//Navy Case No. 99,067: Holographic Navigation//Navy Case No. 99,413: Coherent Image Correlation//Navy Case No. 100,287: Facemask Display//.

DATES: Anyone wishing to object to the grant of this license must file written objections along with supporting evidence, if any, not later than May 31, 2011.

ADDRESSES: Written objections are to be filed with the Office of Counsel, Naval Surface Warfare Center Panama City, 110 Vernon Ave., Code CDL, Panama City, FL 32407-7001.

FOR FURTHER INFORMATION CONTACT: Mr. James Shepherd, Patent Counsel, Naval Surface Warfare Center Panama City, 110 Vernon Ave., Panama City, FL 32407-7001, telephone 850-234-4646, fax 850-235-5497, or james.t.shepherd@navy.mil.

(Authority: 35 U.S.C. 207, 37 CFR part 404.)

Dated: May 9, 2011.
D.J. Werner,
Lieutenant Commander, Office of the Judge Advocate General, U.S. Navy, Federal Register Liaison Officer.

[FR Doc. 2011-11947 Filed 5-13-11; 8:45 am]

BILLING CODE 3810-FF-P